DEPARTMENT OF EDUCATION

Professional Development for Arts Educators Program

AGENCY: Office of Innovation and Improvement, Department of Education.

ACTION: Notice of final priority, requirements, and definitions.

SUMMARY: The Assistant Deputy Secretary for Innovation and Improvement announces a priority, requirements, and definitions under the Professional Development for Arts Educators program. We may use this priority and these requirements and definitions for competitions in fiscal year (FY) 2005 and later years. We take this action to focus Federal financial assistance on an identified national need for professional development for arts educators and other instructional staff that focuses on the development, enhancement, and expansion of standards-based arts instruction or that integrates arts instruction with other subject area content, and to improve student achievement of low-income students in kindergarten through grade 12 (K-12). We intend the priority, requirements, and definitions to enable the Department to award grants that improve the performance of needy children and that increase the amount of information on effective professional development for arts educators that is available nationally.

EFFECTIVE DATE: This priority and these requirements and definitions are effective April 29, 2005.

FOR FURTHER INFORMATION CONTACT: Carol Sue Fromboluti, U.S. Department of Education, 400 Maryland Avenue, SW., room 4W223, Washington, DC 20202-5950. Telephone: (202) 205-9654 or via Internet: Carol.Fromboluti@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: Through this program, the Department intends to fund model professional development programs for arts educators and other instructional staff of K-12 students in high-poverty schools. The purpose of this program is to strengthen standards-based arts education programs and to help ensure that all students meet challenging State academic content standards and challenging State student academic achievement standards in the arts.

We published a notice of proposed priority, requirements, and definitions for this program in the Federal Register on January 13, 2005 (70 FR 2399). The notice of proposed priority, requirements, and definitions included a discussion of the significant issues and analysis used in the determination of the priority, definitions, and application requirements (see pages 2400 through 2401 of that notice).

This notice of final priority, requirements, and definitions contains several changes from the notice of proposed priority, requirements, and definitions. We have added a definition for the term “arts,” and we have clarified that instructional staff may be included in professional development activities funded through program grants.

Analysis of Comments and Changes

In response to our invitation in the notice of proposed priority, requirements, and definitions, eight parties submitted comments. An analysis of the comments and the changes in the priority, requirements, and definitions since publication of the notice of proposed priority, requirements, and definitions follows.

We discuss substantive issues under the title of the priority, requirement, or definition to which they pertain. Generally, we do not address technical and other minor changes—and suggested changes that we are not authorized to make under the applicable statutory authority.

Proposed Application Requirement

Comment: We received two comments on the proposed application requirement, which would require applicants to propose to carry out professional development programs for art educators and other instructional staff of K-12 low-income children and youth by implementing projects in schools in which 50 percent or more of the children enrolled are from low-income families (based on the poverty criteria in Title I, Section 1113(a)(5) of the Elementary and Secondary Education Act of 1965, as amended by the No Child Left Behind Act of 2001 (ESEA)). One commenter supported this requirement, and the other suggested that we include both “at-risk” and “special-needs” children in the 50 percent low-income requirement.

Discussion: The priority is intended to ensure that the program benefits low-income students and helps schools that educate large concentrations of those students. Research has shown that such schools have the greatest difficulty in educating all students to high standards. We do not believe that the suggestions for changing the priority would serve this purpose. While we understand the sentiment underlying this request, we believe that keeping the requirement as written will target services toward the maximum number of low-income students and schools.

Change: None.

Proposed Eligibility Requirement

Comment: We received two comments on the proposed eligibility requirement under which eligibility would be limited to a local educational agency (LEA), which may be a charter school that is considered an LEA under State law and regulations, that is acting on behalf of an individual school or schools that meet the poverty criterion with respect to children from low-income families and that must work in partnership with one or more of the following—

(1) A State or local non-profit or governmental arts organization;

(2) A State educational agency (SEA) or regional educational service agency;

(3) An institution of higher education; or

(4) A public or private agency, institution, or organization, including a museum, an arts education association, a library, a theater, or a community- or faith-based organization.

These commenters argued that many State and local non-profit or governmental arts organizations have demonstrated their ability to take the lead in developing sustainable and institutionalized professional development programs within public schools and should be eligible to apply for a grant. They contend that some large school districts are out of touch with the site-based planning efforts of individual schools that have long-standing partnerships with local non-profit or governmental arts organizations. Accordingly, the commenters believe these local organizations may be in a better position to assume the responsibilities of a grantee.

Discussion: Under the proposed eligibility requirement, an LEA must be the applicant. Since the goal of this program is to develop model programs of professional development for arts educators and other instructional staff, we believe that the programs that are most effective will be those that are part of a school system-supported effort. For this reason, we believe that the LEA should be the only eligible applicant, working in partnership with other qualifying organizations.

Change: None.

Proposed Definitions

Comment: We received several comments on the proposed definition of arts educator. One commenter recommended that we include arts specialists, classroom teachers, and professional artists who work in schools, community centers, and other learning institutions in the definition.

Discussion: We agree with the commenter's suggestion. Although we believe that the original definition includes all teachers who work in arts instruction, including classroom teachers and arts specialists who integrate the arts with core academic areas, we think it is appropriate to clarify that those types of arts instructors may receive professional development training.

Change: In response to this comment, and because the program statute allows for the professional development of arts educators and “other instructional staff” section 5551(d)(5) of the ESEA, we have added the words “other instructional staff” to the text of the priority and requirements. This clarifies that the program permits the inclusion of classroom teachers, teaching artists, and paraprofessionals in all professional development opportunities.

Comment: Commenters recommended including the literary arts, the media arts, and folk arts as areas in which educators could work and be eligible to take part in professional development opportunities.

Discussion: Activities in the folk arts and media arts would address the National Art Standards since they fall under the umbrella of music, dance, theatre, and the visual arts for which there are established national standards. On the other hand, we believe that the literary arts are generally considered in the domain of the humanities, and they are not included in the National Arts Standards.

Change: In response to this comment and based on our own internal review, we are further clarifying the terminology used in the notice by adding a definition of the term “arts” to include music, dance, theater, media arts, and visual arts, including folk arts. We are also amending the definition of “arts educator” to make it consistent with this language.

Comment: We received a comment on the definition of the word “integrating” that suggested we use the wording “the use of high-quality arts instruction within other academic content areas to make the structural connections between the arts and other subjects or as a means of teaching about and through the arts.”

Discussion: We believe the original language provides for greater simplicity, scope, and flexibility.

Change: None.

Note: This notice does not solicit applications. In any year in which we choose to use this priority, these requirements or these definitions, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority: This priority supports professional development programs for K-12 arts educators and other instructional staff that use innovative instructional methods and current knowledge from education research and focus on—

(1) The development, enhancement, or expansion of standards-based arts education programs; or

(2) The integration of standards-based arts instruction with other core academic area content.

In order to meet this priority, an applicant must demonstrate that the project for which it seeks funding is linked to State and national standards intended to enable all students to meet challenging expectations, and to improving student and school performance.

Requirements

Application Requirement

To be eligible for Professional Development for Arts Educators Program funds, applicants must propose to carry out professional development programs for arts educators and other instructional staff of K-12 low-income children and youth by implementing projects in schools in which 50 percent or more of the children enrolled are from low-income families (based on the poverty criteria in Title I, Section 1113(a)(5) of the Elementary and Secondary Education Act of 1965, as amended by the No Child Left Behind Act of 2001 (ESEA)).

Eligibility Requirement

To be eligible to receive funding under the Professional Development for Arts Educators program, an applicant must be—

A local educational agency (LEA), which may be a charter school that is considered an LEA under State law and regulations, that is acting on behalf of an individual school or schools that meets the poverty criterion with respect to children from low-income families that is specified in the application requirement elsewhere in this notice, and that must work in partnership with one or more of the following—

(1) A State or local non-profit or governmental arts organization;

(2) A State educational agency (SEA) or regional educational service agency;

(3) An institution of higher education; or

(4) A public or private agency, institution, or organization, including a museum, an arts education association, a library, a theater, or a community-or faith-based organization.

Definitions: As used in this notice—

Arts includes music, dance, theater, media arts, and visual arts, including folk arts.

Arts educator means a teacher who works in music, dance, theater, media arts, or visual arts, including folk arts.

Integrate means to strengthen (i) the use of high-quality arts instruction within other academic content areas, and (ii) the place of the arts as a core academic subject in the school curriculum.

Executive Order 12866

This notice of final priority, requirements, and definitions has been reviewed in accordance with Executive Order 12866. Under the terms of the order, we have assessed the potential costs and benefits of this regulatory action.

The potential costs associated with the notice of final priority, requirements, and definitions are those resulting from statutory requirements and those we have determined as necessary for administering this program effectively and efficiently.

In assessing the potential costs and benefits—both quantitative and qualitative—of this notice of final priority, requirements, and definitions, we have determined that the benefits of the priority, requirements, and definitions justify the costs.

We also have determined that this regulatory action does not unduly interfere with State, local, and tribal governments in the exercise of their governmental functions.

We fully discussed the costs and benefits of this regulatory action in the notice of proposed priority, requirements, and definitions.

Intergovernmental Review

This program is subject to Executive Order 12372 and the regulations in 34 CFR part 79. One of the objectives of the Executive order is to foster an intergovernmental partnership and strengthened federalism. The Executive order relies on processes developed by State and local governments for coordination and review of proposed Federal financial assistance.

This document provides early notification of our specific plans and action for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.351C Professional Development for Arts Educators)

Program Authority: 20 U.S.C. 7271.

Dated: March 24, 2005.
Michael J. Petrilli,
Acting Assistant Deputy Secretary for Innovation and Improvement.

[FR Doc. 05-6264 Filed 3-29-05; 8:45 am]

BILLING CODE 4000-01-P